DEPARTMENT OF THE INTERIOR

Fish and Wildlife Service

50 CFR Part 17

[FWS-R6-ES-2008-0053; 1111 FY07 MO-B2]

Endangered and Threatened Wildlife and Plants; 12-Month Finding on a Petition to List the White-tailed Prairie Dog (Cynomys leucurus) as Threatened or Endangered

AGENCY: Fish and Wildlife Service, Interior.

ACTION: Initiation of status review.

SUMMARY: We, the U.S. Fish and Wildlife Service (Service), announce the initiation of a status review for the white-tailed prairie dog (Cynomys leucurus) throughout its range in the United States. The status review will include analysis of whether the white-tailed prairie dog warrants listing as threatened or endangered under the Endangered Species Act of 1973, as amended (Act). Through this action, we encourage all interested parties to provide us information regarding the status of, and any potential threats to, the white-tailed prairie dog throughout its range, or any significant portion of its range.

DATES: We will accept information received or postmarked on or before July 7, 2008 to allow us time to review and consider the information in the evaluation of the status of the species and our 12-month finding.

ADDRESSES: You may submit information by one of the following methods:

• Federal eRulemaking Portal: http://www.regulations.gov. Follow the instructions for submitting comments.

• U.S. mail or hand-delivery: Public Comments Processing, Attn: FWS-R6-ES-2008-0053; Division of Policy and Directives Management; U.S. Fish and Wildlife Service; 4401 N. Fairfax Drive, Suite 222; Arlington, VA 22203.

We will not accept e-mail or faxes. We will post all information on http://www.regulations.gov. This generally means that we will post any personal information you provide us (see the Information Solicited section below for more information).

FOR FURTHER INFORMATION CONTACT: Larry Crist, Field Supervisor, Utah Field Office, U.S. Fish and Wildlife Service, at the above address, or phone (801) 975-3330, ext. 126.

SUPPLEMENTARY INFORMATION:

Information Solicited

To ensure that the status review is complete and based on the best available scientific and commercial information, we are soliciting information concerning the status of the white-tailed prairie dog. We request information from the public, other concerned governmental agencies, Native American Tribes, the scientific community, industry, or any other interested parties. We are opening a 60-day comment period to allow all interested parties an opportunity to provide information on the status of the white-tailed prairie dog throughout its range, including:

(1) Information regarding the species' historical and current population status, distribution, and trends; its biology and ecology; and habitat selection;

(2) Information on the effects of potential threat factors that are the basis for a species' listing determination under section 4 (a) of the Act (16 U.S.C. 1531 et seq.), which are:

(a) Present or threatened destruction, modification, or curtailment of the species' habitat or range;

(b) Overutilization for commercial, recreational, scientific, or educational purposes;

(c) Disease or predation;

(d) Inadequacy of existing regulatory mechanisms; and

(e) Other natural or manmade factors affecting its continued existence.

(3) Information on management programs for the conservation of the white-tailed prairie dog.

Please note that submissions merely stating support for or opposition to the action under consideration without providing supporting information, although noted, will not be considered in making a determination, because section 4(b)(1)(A) of the Act directs that determinations as to whether any species is a threatened or endangered species must be made “solely on the basis of the best scientific and commercial data available.” At the conclusion of the status review, we will issue a new 12-month finding on the petition, as provided in section 4(b)(3)(B) of the Act.

You may submit your information concerning this status review by one of the methods listed in the ADDRESSES section. We will not consider submissions sent by e-mail or fax or to an address not listed in the ADDRESSES section.

If you submit information via http://www.regulations.gov, your entire submission—including any personal identifying information—will be posted on the Web site. If your submission is made via a hardcopy that includes personal identifying information, you may request at the top of your document that we withhold this information from public review. However, we cannot guarantee that we will be able to do so. We will post all hardcopy submissions on http://www.regulations.gov.

Information and materials we receive, as well as supporting documentation we used in preparing this finding, will be available for public inspection on http://www.regulations.gov, or by appointment, during normal business hours, at the U.S. Fish and Wildlife Service's Utah Field Office, 2369 West Orton Circle, Suite 50, West Valley City, Utah 84119, telephone (801) 975-3330.

Background

On July 15, 2002, we received a petition from the Center for Native Ecosystems, Forest Guardians, Biodiversity Conservation Alliance, and Terry Tempest Williams requesting that we list the white-tailed prairie dog (Cynomys leucurus) as threatened or endangered across its entire range.

Section 4(b)(3)(B) of the Act requires that for any petition to revise the Lists of Threatened and Endangered Wildlife and Plants, to the maximum extent practicable, within 90 days after receiving the petition, we make a finding as to whether the petition presents substantial scientific or commercial information indicating that the petitioned action may be warranted. In addition, within 12 months of the date of the receipt of the petition, we make a finding on whether the petitioned action is: (a) Not warranted, (b) warranted, or (c) warranted but precluded by other pending proposals. Such 12-month findings are to be published promptly in the Federal Register.

On November 9, 2004, we announced our 90-day finding (69 FR 64889) that the petition did not present substantial scientific or commercial information indicating that listing may be warranted. On July 12, 2007, in a Director's memorandum, the Service announced that we would review the November 9, 2004, finding after questions were raised about the integrity of scientific information used and whether the decision made was consistent with the appropriate legal standards. We received a lawsuit from the Center for Native Ecosystems, and three other entities, on November 27, 2007, regarding our not substantial 90-day finding. On February 22, 2008, based on our review of the petition and the previous finding, we agreed, in a stipulated settlement agreement, to submit a notice initiating a 12-month finding for the white-tailed prairie dog to the Federal Register on or before May 1, 2008, and to submit a 12-month finding for the white-tailed prairie dog to the Federal Register on or before June 1, 2010. This notice initiates the 12-month finding for the white-tailed prairie dog. The lawsuit was dismissed February 26, 2008.

At this time, we are soliciting new information on the status and potential threats to the white-tailed prairie dog. We will base our 12-month finding on a review of the best scientific and commercial information available, including all information received as a result of this notice. For more information on the biology, habitat, and range of the white-tailed prairie dog, please refer to our 90-day finding published in the Federal Register on November 9, 2004 (69 FR 64889).

We request any new information concerning the status of the white-tailed prairie dog. If you submit information, support it with documentation such as maps, bibliographic references, methods used to gather and analyze the data, or copies of any pertinent publications, reports, or letters by knowledgeable sources.

Author

The primary authors of this document are staff of U.S. Fish and Wildlife Service, Utah Field Office.

Authority

The authority for this action is the Endangered Species Act of 1973, as amended (16 U.S.C. 1531 et seq.).

Dated: April 29, 2008.
Kenneth Stansell,
Acting Director, Fish and Wildlife Service.

[FR Doc. E8-9830 Filed 5-5-08; 8:45 am]

BILLING CODE 4310-55-P